NUCLEAR REGULATORY COMMISSION

Nominations of New Members of the Advisory Committee on the Medical Uses of Isotopes

AGENCY: U.S. Nuclear Regulatory Commission.

ACTION: Call for nominations.

SUMMARY: The U.S. Nuclear Regulatory Commission (NRC) is inviting nominations for two existing positions on the Advisory Committee on the Medical Uses of Isotopes (ACMUI): A medical physicist with expertise in nuclear unsealed byproduct material and a health care administrator.

DATES: Nominations are due on or before September 5, 2000.

ADDRESSES: Submit nominations to: The Office of Human Resources, ATTN: Ms. Robin Avent, Mail Stop T2D32, U.S. Nuclear Regulatory Commission, Washington, DC 20555.

FOR FURTHER INFORMATION CONTACT: Betty Ann Torres, Office of Nuclear Material Safety and Safeguards, U.S. Nuclear Regulatory Commission, Washington, DC 20555, Telephone: 301-415-0191.

SUPPLEMENTARY INFORMATION: The ACMUI advises the NRC on policy and technical issues that arise in regulating the medical use of byproduct material. Responsibilities include providing comments on changes in NRC rules, regulations, and guidance documents concerning medical use; evaluating certain non-routine uses of byproduct material for medical use; providing technical assistance in licensing, inspection, and enforcement cases; and bringing key issues to the attention of NRC for appropriate action.

ACMUI members possess the medical and technical skills needed to address evolving issues. Currently, the ACMUI membership consists of the following: (a) Nuclear medicine physician; (b) nuclear cardiologist; (c) medical physicist in nuclear medicine unsealed byproduct material; (d) health care administrator; (e) patients' rights and care advocate; (f) Food and Drug Administration representative; and (g) state representative. The staff is in the process of finalizing the appointment of nominees for the following positions: (a) a therapy physicist; (b) a radiation safety officer; (c) a nuclear pharmacist; and (d) two radiation oncologists.

The NRC is inviting nominations for two existing positions on the ACMUI—a medical physicist with expertise in nuclear medicine unsealed byproduct material and a health care administrator. The term of the individual currently occupying the medical physicist position ends September 30, 2000, and the term of the individual currently occupying the health care administrator position ends September 30, 2001.

Nominees must include four copies of their resumes, describing their educational and professional qualifications, and provide their current addresses and telephone numbers.

Committee members serve a 3-year term, with possible reappointment to an additional 3-year term.

Nominees must be U.S. citizens and be able to devote approximately 80 hours per year to committee business. Members will be compensated and reimbursed for travel (including per-diem in lieu of subsistence) and secretarial and correspondence expenses unless the member is a full-time Federal employee. Full-time Federal employees are only reimbursed for travel expenses. Nominees will undergo a security background check and will be required to complete financial disclosure statements to avoid conflict-of-interest issues.

Dated at Washington, DC this 27th day of June, 2000.
For the U.S. Nuclear Regulatory Commission.
Andrew L. Bates,
Advisory Committee Management Officer, Office of the Secretary of the Commission.

[FR Doc. 00-16896 Filed 7-3-00; 8:45 am]

BILLING CODE 7590-01-P